DEPARTMENT OF HOMELAND SECURITY

Federal Emergency Management Agency

Agency Information Collection Activities: Submission for OMB Review; Comment Request

AGENCY: Federal Emergency Management Agency, Emergency Preparedness and Response Directorate, U.S. Department of Homeland Security.

ACTION: Notice and request for comments.

SUMMARY: The Federal Emergency Management Agency (FEMA) has submitted the following information collection to the Office of Management and Budget (OMB) for review and clearance in accordance with the requirements of the Paperwork Reduction Act of 1995 (44 U.S.C. Chapter 35). The submission describes the nature of the information collection, the categories of respondents, the estimated burden (i.e., the time, effort and resources used by respondents to respond) and cost, and includes a description of the information collections required in 44 CFR 61, Appendix A(2)VII(T) and implementing guidance and the Closed Basin Lakes Conservation Easements Biennial Report that FEMA will use.

Title: Closed-Basin Lake and Endorsement Requirements.

OMB Number: 1660-0050.

Abstract: A closed basin lake is a natural lake from which water leaves primarily through evaporation and whose surface area exceeds or has exceeded one square mile at any time in the recorded past. FEMA Regional Directors shall determine that State, local government, or tribe has established new building restrictions and the State is providing the support needed to eliminate future flood losses before policyholders can qualify for insurance claim benefits under the closed basin lake standard flood insurance policy endorsement.

Affected Public: Individuals or households, business or other for profit, and State, local or tribal government.

Number of Respondents: 16,270.

Estimated Time per Respondent: The total estimated hours per respondent for the completion of all ten collections in this information collection request is 103.25 hours, with an estimated average of 10.33 hours per respondent, per collection.

Estimated Total Annual Burden Hours: 5,356 hours.

Frequency of Response: On occasion and biennially for responses to the Closed-Basin Lakes Conservation Easements Biennial Report.

Comments: Interested persons are invited to submit written comments on the proposed information collection to the Office of Information and Regulatory Affairs at OMB, Attention: Desk Officer for the Department of Homeland Security/FEMA at e-mail address kflee@omb.eop.gov or facsimile number (202) 395-7285. Comments must be submitted on or before April 29, 2004. In addition, interested persons may also send comments to FEMA (see contact information below).

FOR FURTHER INFORMATION CONTACT: Requests for additional information or copies of the information collection should be made to Muriel B. Anderson, Chief, Records Management Branch, FEMA at 500 C Street, SW., Room 316, Washington, DC 20472, facsimile number (202) 646-3347, or e-mail address FEMA-Information-Collections@dhs.gov.

Dated: March 22, 2004.
George S. Trotter,
Acting Division Director, Information Resources Management Division, Information Technology Services Directorate.

[FR Doc. 04-7019 Filed 3-29-04; 8:45 am]

BILLING CODE 9110-11-P